DEPARTMENT OF LABOR

Employment and Training Administration

[TA-W-60,858]

Delphi Corporation, Automotive Holdings Group Including Leased Workers of Bartech Group, Inc., Manpower and Continental Design and Engineering Working On-Site at Delphi; Anderson, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 2, 2007, applicable to workers of Delphi Corporation, Automotive Holdings Group, Anderson, Indiana. The notice was published in the Federal Register on February 14, 2007 (72 FR 7087).

At the request of the petitioners, the Department reviewed the certification for workers of the subject firm. The workers are engaged in the production of automotive ignition products.

New information shows that leased workers of Bartech Group, Inc., Manpower and Continental Design and Engineering were employed on-site at the Anderson, Indiana location of Delphi Corporation, Automotive Holdings Group.

Based on these findings, the Department is amending this certification to include leased workers of Bartech Group, Inc., Manpower and Continental Design and Engineering working on-site at the Anderson, Indiana location of the subject firm.

The intent of the Department's certification is to include all workers employed on-site at Delphi Corporation, Automotive Holdings Group, Anderson, Indiana who were adversely affected by a shift in production to Mexico.

The amended notice applicable to TA-W-60,858 is hereby issued as follows:

“All workers of Delphi Corporation, Automotive Holdings Group, including leased workers of Bartech Group, Inc., Manpower and Continental Design and Engineering, Anderson, Indiana, who became totally or partially separated from employment on or after January 23, 2006, through February 2, 2009, are eligible to apply for adjustment assistance under Section 223 of the Trade Act of 1974, and are also eligible to apply for alternative trade adjustment assistance under Section 246 of the Trade Act of 1974.”

Signed at Washington, DC, this 1st day of May 2007.
Richard Church,
Certifying Officer, Division of Trade Adjustment Assistance.

[FR Doc. E7-8826 Filed 5-8-07; 8:45 am]

BILLING CODE 4510-FN-P